DEPARTMENT OF ENERGY

Federal Energy Regulatory Commission

[Project No. 1494]

Grand River Dam Authority; Notice of Public Meeting

May 5, 2005.

The Commission hereby gives notice that members of its staff will conduct a public meeting on Tuesday, May 24, 2005, from 6:30 p.m. to 9 p.m (c.s.t.) in the fellowship hall of the First United Methodist Church located at 200 B Street, NW., Miami, Oklahoma. The purpose of the meeting is to familiarize the public with the Commission's regulatory role for the Pensacola Project (FERC No. 1494), and to receive comments from the public concerning management of the project's shoreline and related resources. Staff is particularly interested in comments related to marina development, dredging operations, public access, and resource protection. All interested members of the public are invited to participate.

Please contact steven.naugle@ferc.gov or (202) 502-6182 with any questions, or for additional information.

Magalie R. Salas,
Secretary.

[FR Doc. E5-2313 Filed 5-11-05; 8:45 am]

BILLING CODE 6717-01-P